DEPARTMENT OF ENERGY

Federal Energy Regulatory Commission

[Project No. 11068-006 California]

Orange Cove Irrigation District; Notice of Availability of Environmental Assessment

October 16, 2006.

An environmental assessment (EA) is available for public review. The EA was prepared for an application filed by the Orange Cove Irrigation District (licensee) on April 19, 2006, requesting Commission approval of an amendment of license for the Fishwater Release Project to add a powerhouse with a single turbine generator with a capacity of 1.8 megawatts. The new powerhouse would utilize flow releases from the U.S. Bureau of Reclamation's Friant Dam and would only generate power after flows for fish hatchery and existing powerhouse demands are met.

The EA evaluates the environmental impacts that would result from approving the licensee's proposed additional generating capacity. Some ground disturbance would occur but impacts to the terrestrial and aquatic environments are expected to be minor and short term. The EA finds that approval of the amendment application would not constitute a major federal action significantly affecting the quality of the human environment.

A copy of the EA is attached to a Commission order titled “Order Amending License”, issued October 13, 2006, and is available in the Commission's Public Reference Room. A copy of the EA may also be viewed on the Commission's Web site at http://www.ferc.gov using the “elibrary” link. Enter the docket number (P-11068) in the docket field to access the document. For assistance, call (202) 502-8222 or (202) 502-8659 (for TTY).

Magalie R. Salas,
Secretary.

[FR Doc. E6-17638 Filed 10-20-06; 8:45 am]

BILLING CODE 6717-01-P